DEPARTMENT OF AGRICULTURE

Forest Service

Notice of New Fee Site; Federal Lands Recreation Enhancement Act (Title VIII, Pub. L. 108-447)

AGENCY: Plumas National Forest, USDA Forest Service.

ACTION: Notice of New Fee Site.

SUMMARY: The Plumas National Forest is proposing to charge a new fee for the overnight rental of Black Mountain Lookout. This Lookout has not been available for recreation use prior to this date. Fees are assessed based on the level of amenities and services provided, cost of operation and maintenance, market assessment and public comment. The fee listed is only proposed and final determination will be made upon further analysis and public comment. Rentals of other lookouts on the adjacent National Forests have shown that people appreciate and enjoy the availability of historic rental lookouts. Funds from the rental will be used for the continued operation and maintenance of Black Mountain Lookout, and to develop improvements that benefit visitor's recreation experiences.

DATES: Black Mountain Lookout will become available for recreation rental September, 2009.

ADDRESSES: Alice B. Carlton, Forest Supervisor, Plumas National Forest, 159 Lawrence Street, Quincy, California 95971.

FOR FURTHER INFORMATION CONTACT: Mary Kliejunas, District Archaeologist, or Judy Schaber, Assistant Resource Officer, at 530-836-2575.

SUPPLEMENTARY INFORMATION: The Federal Recreation Lands Enhancement Act (Title VII, Pub. L. 108-447) directed the Secretary of Agriculture to publish a six month advance notice in the Federal Register whenever new recreation fee areas are established.

This proposed new fee will be reviewed by a Recreation Resource Advisory Committee prior to a final decision and implementation.

This is the Plumas National Forests first lookout rental. Rentals on adjacent Forests are often fully booked throughout their rental season. A business analysis of Black Mountain Lookout rental has shown that people desire having this sort of recreation experience on the National Forest. A market analysis indicates that the $50 to $70 per night fee is both reasonable and acceptable for this sort of unique recreation experience.

People wanting to rent Black Mountain Lookout will need to do so through the National Recreation Reservation Service, at http://www.reserveusa.com or by calling 1-877-444-6777. The National Recreation Reservation Service charges a $9 fee for reservations made through the Internet or $10 for reservations made through the call center.

Date: February 9, 2009.
Alice B. Carlton,
Plumas National Forest Supervisor.

[FR Doc. E9-4735 Filed 3-4-09; 8:45 am]

BILLING CODE 3410-11-P